DEPARTMENT OF ENERGY

Federal Energy Regulatory Commission

Combined Notice of Filings # 2

June 6, 2005.

Take notice that the Commission received the following electric rate filings;

Docket Numbers: ER05-652-003.

Applicants: Southwest Power Pool, Inc.

Description: Southwest Power Pool, Inc submits a revised tariff sheet with the correct revenue requirement for Southwestern Power Administration to correct its filing submitted on 2/28/05 to implement a regional transmission cost allocation proposal with regard to new transmission upgrades.

Filed Date: 05/27/2005.

Accession Number: 20050602-0062.

Comment Date: 5 p.m. eastern time on Friday, June 17, 2005.

Docket Numbers: ER05-698-002.

Applicants: San Joaquin Cogen, L.L.C.

Description: San Joaquin Cogen, L.L.C. submits revisions to its market-based rate tariff, designated as FERC Electric Tariff, Original Volume 1, pursuant to the Commission's letter order issued 5/11/05.

Filed Date: 06/01/2005.

Accession Number: 20050603-0092.

Comment Date: 5 p.m. eastern time on Wednesday, June 22, 2005.

Docket Numbers: ER05-717-002.

Applicants: Spring Canyon Energy LLC.

Description: Spring Canyon Energy LLC submits Substitute Original Sheet 3 to its market-based rate tariff that reflects the conforming changes required by the Commission the order issued May 25, 2005.

Filed Date: 06/01/2005.

Accession Number: 20050603-0086.

Comment Date: 5 p.m. eastern time on Wednesday, June 22, 2005.

Docket Numbers: ER05-833-001.

Applicants: American Transmission Company LLC.

Description: American Transmission Co LLC submits a supplemental replacement page to the Table of Contents re to its Amended & Restated Generation—Transmission Interconnection Agreement filed on May 27, 2005.

Filed Date: 06/01/2005.

Accession Number: 20050603-0098.

Comment Date: 5 p.m. eastern time on Wednesday, June 22, 2005.

Docket Numbers: ER05-1057-000.

Applicants: Virginia Electric and Power Company.

Description: Virginia Electric and Power Co d/b/a as Dominion Virginia Power submits an unexecuted Mutual Operating Agreement with North Carolina Electric Membership Corporation to be effective 5/1/05 under ER05-1057.

Filed Date: 05/31/2005.

Accession Number: 20050602-0132.

Comment Date: 5 p.m. eastern time on Tuesday, June 21, 2005.

Docket Numbers: ER05-1058-000; ER05-1059-000; ER05-1060-000.

Applicants: Bayonne Plant Holding, L.L.C., Camden Plant Holding, L.L.C., Newark Bay Cogeneration Partnership, L.P.

Description: New Market Power Co, LLC on behalf of Bayonne Plant Holding, L.L.C., Camden Plant Holding, L.L.C. and Newark Bay Cogeneration Partnership, L.P. submits

Rate Schedules setting forth charges and revenue requirements for providing cost-based Reactive Support and Voltage Control from Generation Sources Service to be effective 7/1/05.

Filed Date: 05/31/2005.

Accession Number: 20050602-0133.

Comment Date: 5 p.m. eastern time on Tuesday, June 21, 2005.

Docket Numbers: ER98-3285-004; ER00-2687-006.

Applicants: Central Illinois Public Service Company and Union Electric Company.

Description: Central Illinois Public Service Company and Union Electric Company notifies FERC of certain changes in status relevant to their continued authorizations to sell power at market-based rates.

Filed Date: 06/01/2005.

Accession Number: 20050603-0091.

Comment Date: 5 p.m. eastern time on Wednesday, June 22, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-3074 Filed 6-14-05; 8:45 am]

BILLING CODE 6717-01-P